DEPARTMENT OF AGRICULTURE

Forest Service

Malheur, Umatilla, and Wallowa-Whitman National Forests; Oregon and Washington; Revision of the Land Management Plans

AGENCY: Forest Service, Agriculture (USDA).

ACTION: Notice of intent to prepare an environmental impact statement.

SUMMARY: The U.S. Department of Agriculture (USDA) Forest Service is revising the land management plans for the Malheur, Umatilla, and Wallowa-Whitman National Forests (together known as the Blue Mountains National Forests) and preparing an environmental impact statement (EIS) consistent with the agency's National Forest System Land Management Planning regulations (36 CFR 219) and USDA National Environmental Policy Act regulations (7 CFR 1b.7). This notice announces the Forest Service's intent to prepare an EIS and initiate public involvement on the proposed action and request comments on the Preliminary Need to Change, Preliminary Draft Proposed Land Management Plan, the Evaluation of Wilderness Characteristics of Lands included in the inventory, and the list of Preliminary Species of Conservation Concern. This notice describes the documents available for review and how to obtain them; summarizes the need for change to the existing land management plans; provides information concerning public participation and collaboration, including the process for submitting comments; provides an estimated schedule for the planning process, including the time available to submit comments; and explains how to obtain additional information. The Planning, Administrative Reviews, and Litigation System identification number for the project is 64157.

DATES: Comments concerning the Preliminary Need to Change, proposed action, and scope of the analysis must be received by October 6, 2025. The draft EIS is expected a year from publishing the Notice of Intent (NOI), and the complete EIS is expected two years from publishing of this NOI. A Final Record of Decision will be issued following the conclusion of the pre-decisional administrative review process. A schedule for the decision-making process can be found here: https://www.fs.usda.gov/r06/umatilla/planning/plan-revision-timeline.

ADDRESSES: Send written comments to Umatilla National Forest Supervisor's Office, Blue Mountains Forest Plan Revision, 72510 Coyote Road, Pendleton OR 97801. Comments may also be sent electronically to sm.fs.bluesforests@usda.gov and/or https://cara.fs2c.usda.gov/Public/CommentInput?project=64157. All three forest headquarters locations can provide information upon request: Malheur National Forest located at 431 Patterson Bridge Road, John Day, Oregon 97845, Umatilla National Forest located at 72510 Coyote Road, Pendleton OR 97801, and Wallowa-Whitman National Forest located at 1550 Dewey Avenue, Suite A, Baker City, Oregon 97814.

FOR FURTHER INFORMATION CONTACT: Michael Neuenschwander, Revision Team Leader at michael.neuenschwander@usda.gov or by phone 509-730-7525.

Individuals who use telecommunications devices for the hearing impaired may call 711 to reach the Telecommunications Relay Service, 24 hours a day, every day of the year, including holidays.

SUPPLEMENTARY INFORMATION:

Purpose and Need for Action

The National Forest Management Act (NFMA) of 1976 requires that the Forest Service develop a land management plan, often called a forest plan, for every unit of the National Forest System. Land management plans provide strategic direction for management of forest resources. The current Malheur, Umatilla, and Wallowa-Whitman National Forest land management plans were approved in 1990. The purpose and need for revising the current land management plans is to address the preliminary identified need to change the existing land management plans, to address changes in economic, social, and ecological conditions, and to address new information that has emerged since 1990, when the land management plans were approved.

The Notice of Intent to Prepare an Assessment and Initiate the Plan Revision Process pursuant to the 2012 Planning Rule (36 CFR 219) was published in the Federal Register on July 31, 2023 (88 FR 49434). A Draft Assessment was posted for comment on the project website at https://www.fs.usda.gov/r06/umatilla/projects/64157 on March 25, 2024, revised based on public comments received, and the Final Assessment was posted on September 23, 2024. A Draft Preliminary Need to Change was posted for feedback on October 10, 2024 on the project website. Overall, there is a need for land management plan direction that is strategic and identifies desired conditions and other plan content for how resources should be managed, that eliminates redundancies with existing laws, regulations, and policy, and that incorporates the best available scientific information.

Proposed Action

The proposed action is to revise the 1990 Malheur, Umatilla, and Wallowa-Whitman National Forest land management plans to address the identified need to change. In response to the Preliminary Need to Change, a combined Preliminary Draft Proposed Land Management Plan has been developed for the three Blue Mountains forests that focuses on desired conditions, and includes a starting point for objectives, standards, guidelines, and other plan content. Also included are the suitability of lands for specific multiple uses, and the identification of rivers eligible for inclusion into the National Wild and Scenic Rivers system. There are no lands from the evaluation of lands with wilderness characteristics being carried forward as recommended wilderness in the Preliminary Draft Proposed Land Management Plan. A no-action alternative, which represents no change to existing management direction, will be analyzed in addition to the Preliminary Draft Proposed Land Management Plan and will serve as the baseline for the comparison among action alternatives. Comments we receive in response to this notice of intent may identify additional alternatives and may include a modified Preliminary Draft Proposed Land Management Plan. Travel management planning (36 CFR 212) will not be part of the revised Land Management Plans developed under this proposed action.

The Preliminary Need to Change, Preliminary Draft Proposed Land Management Plan content, the Draft Evaluation of Wilderness Characteristics of Lands Included in the Inventory and the list of Preliminary Species of Conservation Concern can be found on the Blue Mountains Forest Plan Revision website at https://www.fs.usda.gov/r06/umatilla/planning/blue-mountains-forest-plan-revision.

List of Substantive Issues and Expected Impacts

The revised land management plans will not authorize site-specific projects or actions but will guide future decision-making on the Malheur, Umatilla, and Wallowa-Whitman National Forests. In accordance with the 2012 Planning Rule, the revised land management plans will provide for sustainability, diversity of plant and animal communities, and active resource management in a multiple use context. The plans will inform the purpose and need for future actions, guide the design of projects, and will include a plan monitoring program that will inform development of future land management activities on the Blue Mountains National Forests.

Substantive issues that may be analyzed include how the Preliminary Draft Proposed Land Management Plan content and any alternatives affect terrestrial and aquatic ecosystem sustainability on the Blue Mountains National Forests and how they may contribute to social and economic sustainability. Indicators of these effects used in analysis may include, but are not limited to, the proportion and diversity of forest structural stages represented across the landscape, wildfire frequency and intensity, key habitat characteristics used by a diversity of species, and acres of land that are identified as suitable for timber production and other uses. Revised Land Management Plan direction may influence the pace and scale of management to promote resilient landscape conditions and contribute to local economies. It is expected to provide flexible management direction that is contemporary with newer technology, scientific information, and policies compared to the existing Land Management Plans.

Cooperating Agencies

Federal, State, Tribal, or local agencies that have jurisdiction by law or special expertise with respect to any environmental impact involved in this proposal are invited to indicate interest in participating as a cooperating agency.

Responsible Official

There will be three responsible officials, one for each national forest. The responsible officials for the revised land management plans are Ann Niesen, Malheur Forest Supervisor, Eric Watrud, Umatilla Forest Supervisor, and Shaun McKinney, Wallowa-Whitman Forest Supervisor.

Scoping Comments and the Objection Process

This notice of intent initiates public involvement that will guide development of the EIS. Written comments are requested and will be considered as the Forests complete the Need to Change the existing land management plans and further develop the proposed action (Draft Proposed Land Management Plan).

Comments received specific to the draft evaluation of wilderness characteristics of lands included in the inventory will help inform the final evaluation. National Forest lands identified in the final evaluation will be used to develop a range of alternatives to the proposed action.

Comments specific to the list of Preliminary Species of Conservation Concern will be considered in updates to the list.

Comments will also be used to identify any potential substantive issues. Substantive issues will, in turn, form the basis for developing alternatives to the proposed action.

Engagement opportunities will be posted on the Blue Mountains Forest Plan Revision website: https://www.fs.usda.gov/r06/umatilla/planning/blue-mountains-forest-plan-revision. Information will also be shared through an electronic mailing list, a physical postcard mailing list, (sign up for mailing list by emailing: sm.fs.bluesforests@usda.gov, or calling 541-278-3716), social media (https://www.facebook.com/UmatillaNF), and local community media outlets.

In order to be most useful to the agency's preparation of the EIS, comments must be provided prior to the close of this comment period and should clearly articulate the reviewer's concerns and contentions. Commenting during this and any other designated opportunity to comment provided by the Responsible Officials as prescribed by the applicable regulations will also provide eligibility to object once the final EIS and draft Record of Decisions have been published. Comments received in response to this solicitation, including names and addresses of those who comment, will be part of the public record for this proposed action. Comments submitted anonymously will be accepted and considered; however, they will not be used to establish eligibility for the objection process.

The draft records of decisions to approve the revised land management plans for the Blue Mountain National Forests will be subject to the objection process identified in 36 CFR part 219 Subpart B (219.50 to 219.62). According to 36 CFR 219.53(a), individuals and entities who have submitted substantive formal comments related to the land management plan revision during the opportunities provided for public comment during the planning process, may file an objection. The burden is on the objector to demonstrate compliance with requirements for objections (36 CFR 219.53).

Nature of Decision To Be Made

The Malheur, Umatilla, and Wallowa-Whitman National Forests are preparing an EIS to revise their land management plans. While one EIS will be prepared, each Forest Supervisor will sign individual Records of Decision for revised Land Management Plans for the respective National Forests. Having one EIS is expected to help the agency gain efficiency and complete plan revision within a reasonable timeframe and budget. Consolidating under one EIS will help streamline the process for some stakeholders and facilitate a landscape-level approach to plan revision, as the three forests share some landscapes, issues, and stakeholders. The EIS process is meant to inform the Forest Supervisors so they can decide which alternative best maintains and restores National Forest System terrestrial and aquatic resources while providing ecosystem services and multiple uses, as required by the National Forest Management Act and the Multiple-Use Sustained-Yield Act.

The revised land management plans will describe the strategic intent of managing the Forests for the next 10 to 15 years and will address the identified need to change the existing land management plans. In addition to preparation of an EIS, other processes and authorizations that the Forest Service will be engaging in include consultation with the relevant federal agencies under Section 7(a)(2) of the Endangered Species Act (16 U.S.C. 1531-1540) and continued consultation with tribal nations on a government-to-government basis. Project level activities will be consistent with the direction contained in the revised land management plans, but authorization will occur through subsequent project-specific National Environmental Policy Act analysis and decision-making.

Lisa Northrop,
Associate Deputy Chief, State and Private Forestry and National Forest System.

[FR Doc. 2025-14846 Filed 8-4-25; 8:45 am]

BILLING CODE 3411-15-P